SECURITIES AND EXCHANGE COMMISSION

[Release No. IC-26171]

Notice of Applications for Deregistration Under Section 8(f) of the Investment Company Act of 1940

August 29, 2003.

The following is a notice of applications for deregistration under section 8(f) of the Investment Company Act of 1940 for the month of August, 2003. A copy of each application may be obtained for a fee at the SEC's Public Reference Branch, 450 Fifth St., NW., Washington, DC 20549-0102 (tel. 202-942-8090). An order granting each application will be issued unless the SEC orders a hearing. Interested persons may request a hearing on any application by writing to the SEC's Secretary at the address below and serving the relevant applicant with a copy of the request, personally or by mail. Hearing requests should be received by the SEC by 5:30 p.m. on September 23, 2003, and should be accompanied by proof of service on the applicant, in the form of an affidavit or, for lawyers, a certificate of service. Hearing requests should state the nature of the writer's interest, the reason for the request, and the issues contested. Persons who wish to be notified of a hearing may request notification by writing to the Secretary, SEC, 450 Fifth Street, NW, Washington, DC 20549-0609. For Further Information Contact: Diane L. Titus at (202) 942-0564, SEC, Division of Investment Management, Office of Investment Company Regulation, 450 Fifth Street, NW, Washington, DC 20549-0504.

Credit Suisse Strategic Value Fund, Inc.

File No. 811-7515]

Summary: Applicant seeks an order declaring that it has ceased to be an investment company. On June 6, 2003, applicant transferred its assets to Credit Suisse Large Cap Value Fund, a series of Credit Suisse Capital Funds, based on net asset value. Expenses of $135,000 incurred in connection with the reorganization were paid by Credit Suisse Asset Management, LLC, applicant's investment adviser and/or its affiliates.

Filing Date: The application was filed on August 1, 2003.

Applicant's Address: 466 Lexington Ave., New York, NY 10017.

PIC Balanced Portfolio

[File No. 811-6497]

Summary: Applicant seeks an order declaring that it has ceased to be an investment company. On April 29, 2003, applicant made a liquidating distribution to its shareholders, based on net asset value. Applicant incurred no expenses in connection with the liquidation.

Filing Date: The application was filed on July 25, 2003.

Applicant's Address: 300 N. Lake Ave., Pasadena, CA 91101.

MW Capital Management Funds

[File No. 811-10535]

Summary: Applicant seeks an order declaring that it has ceased to be an investment company. On April 30, 2003, applicant made a liquidating distribution to its shareholders, based on net asset value. Applicant incurred no expenses in connection with the liquidation.

Filing Date: The application was filed on July 23, 2003.

Applicant's Address: 610 Newport Center Dr., Suite 1000, Newport Beach, CA 92660.

DEVCAP Shared Return Fund

[File No. 811-9070]

Summary: Applicant seeks an order declaring that it has ceased to be an investment company. On June 30, 2003, applicant made a liquidating distribution to its shareholders, based on net asset value. Expenses of $35,870 incurred in connection with the liquidation were paid by applicant.

Filing Date: The application was filed on July 25, 2003.

Applicant's Address: 209 West Fayette St., Baltimore, MD 21201.

Mercury Large Cap Series Funds, Inc.

[File No. 811-9697]

Summary: Applicant seeks an order declaring that it has ceased to be an investment company. On April 28, 2003, applicant's three series transferred their assets to corresponding series of Merrill Lynch Large Cap Series Funds, Inc., based on net asset value. Expenses of approximately $615,151 incurred in connection with the reorganization were paid by Fund Asset Management, Inc., applicant's investment adviser.

Filing Date: The application was filed on July 23, 2003.

Applicant's Address: 800 Scudders Mill Rd., Plainsboro, NJ 08536.

Khan Funds

[File No. 811-7829]

Summary: Applicant seeks an order declaring that it has ceased to be an investment company. By June 15, 2003, all shareholders of applicant had redeemed their shares at net asset value. Expenses of $580 incurred in connection with the liquidation were paid by Khan Investment Inc., applicant's investment adviser.

Filing Dates: The application was filed on June 11, 2003, and amended on July 14, 2003 and August 20, 2003.

Applicant's Address: 714 FM 1960 West #201, Houston, TX 77090.

United Services Insurance Funds

[File No. 811-8766]

Summary: Applicant seeks an order declaring that it has ceased to be an investment company. Applicant has never made a public offering of its securities and does not propose to make a public offering or engage in business of any kind.

Filing Dates: The application was filed on June 9, 2003, and amended on July 24, 2003.

Applicant's Address: 7900 Callaghan Rd., San Antonio, TX 78229.

AFAC Equity, L.P. (formerly 52nd Street Associates, L.P.)

[File No. 811-10277]

Summary: Applicant, a closed-end investment company, seeks an order declaring that it has ceased to be an investment company. Applicant has never made a public offering of its securities and does not propose to make a public offering. Applicant has one limited partner and will continue to operate in reliance on section 3(c)(1).

Filing Dates: The application was filed on June 30, 2003, and amended on August 8, 2003.

Applicant's Address: c/o MIO Partners, Inc. (f/k/a Paul Harris Management, Inc.), 55 East 52nd St., New York, NY 10022.

CMG Investors Trust

[File No. 811-10615]

Summary: Applicant seeks an order declaring that it has ceased to be an investment company. On June 19, 2003, applicant made a liquidating distribution to its sole shareholder, based on net asset value. Expenses of approximately $1,400 incurred in connection with the liquidation were paid by applicant, Capital Management Group Advisors, LLC, applicant's investment adviser, and Cadre Financial Services, Inc., applicant's sub-administrator.

Filing Dates: The application was filed on July 2, 2003, and amended on August 11, 2003.

Applicant's Address: Cadre Financial Services, Inc., 905 Marconi Ave., Ronkonkoma, NY 11779.

Berger Institutional Products Trust

[File No. 811-7367]

Summary: Applicant seeks an order declaring that it has ceased to be an investment company. Applicant's board of directors approved the merger of three of Applicant's series and the liquidation of its remaining series on November 26, 2002. Shareholders of the merged series approved the mergers into the Janus Aspen Series on March 7, 2003, and the mergers took place on March 24, 2003. The liquidation and distribution of the assets of the remaining series occurred on March 31, 2003. Janus Capital Management LLC and Berger Financial Group LLC paid for the expenses of the mergers and liquidation. Applicant has no remaining assets and no outstanding debts or liabilities.

Filing Dates: The application was filed on May 28, 2003, and amended on July 31, 2003.

Applicant's Address: 210 University Blvd., Suite 800, Denver, CO 80206.

For the Commission, by the Division of Investment Management, pursuant to delegated authority.
Margaret H. McFarland,
Deputy Secretary.

[FR Doc. 03-22598 Filed 9-4-03; 8:45 am]

BILLING CODE 8010-01-P